DEPARTMENT OF DEFENSE

Department of the Navy

[Docket ID: USN-2024-HQ-0004]

Submission for OMB Review; Comment Request

AGENCY: Headquarters Marine Corps (HQMC), Department of the Navy (DON), Department of Defense (DoD).

ACTION: 30-Day information collection notice.

SUMMARY: The DoD has submitted to the Office of Management and Budget (OMB) for clearance the following proposal for collection of information under the provisions of the Paperwork Reduction Act.

DATES: Consideration will be given to all comments received by December 19, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Marine Corps NAF Enterprise Contract Management System Proposals; OMB Control Number 0712-ECMS.

Type of Request: New.

Proposal Packages (electronic submissions)

Number of Respondents: 408.

Responses per Respondent: 1.

Annual Responses: 408.

Average Burden per Response: 2 hours.

Annual Burden Hours: 816.

Proposal Packages (mail/shipping submissions)

Number of Respondents: 441.

Responses per Respondent: 1.

Annual Responses: 441.

Average Burden per Response: 2.25 hours.

Annual Burden Hours: 992.

Total

Number of Respondents: 849.

Annual Responses: 849.

Annual Burden Hours: 1,808.

Needs and Uses: Marine Corps Community Services (MCCS) procurement offices obtain supplies, services, and construction activities for MCCS in a fair, equitable, and impartial manner in compliance with applicable laws and regulations pertaining to Nonappropriated Fund (NAF) Instrumentalities. Public information collections are needed to effectively solicit, evaluate, and track MCCS and other Marine Corps NAF purchasing and contracting activities and for the reporting requirements associated with those actions.

Respondents are contractors/vendors/offerors (hereinafter called “contractors”) who would like to conduct business (such as sell goods or services or perform construction activities) with an MCCS or other Marine Corps NAFIs. They are responding to opportunities to qualify for and receive a contract award by documenting business eligibility requirements; providing quotes, proposals, and contract modifications; and documenting areas of responsibility. The information collected from contractors will vary depending on the nature of the solicitation and its associated contract clauses. Information will be submitted via FedConnect online services or mailed directly to MCCS, depending on the contract type.

Affected Public: Business or other for-profit.

Frequency: On occasion.

Respondent's Obligation: Voluntary.

OMB Desk Officer: Ms. Jasmeet Seehra.

DoD Clearance Officer: Mr. Reginald Lucas.

Dated: November 13, 2024.
Aaron T. Siegel,
Alternate OSD Federal Register Liaison Officer, Department of Defense.

[FR Doc. 2024-26854 Filed 11-18-24; 8:45 am]

BILLING CODE 6001-FR-P